DEPARTMENT OF HOMELAND SECURITY

Federal Emergency Management Agency

44 CFR Part 67

[Docket ID FEMA-2011-0002; Internal Agency Docket No. FEMA-B-1185]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before July 5, 2011.

ADDRESSES: The corresponding preliminary Flood Insurance Rate Map (FIRM) for the proposed BFEs for each community is available for inspection at the community's map repository. The respective addresses are listed in the table below.

You may submit comments, identified by Docket No. FEMA-B-1185, to Luis Rodriguez, Chief, Engineering Management Branch, Federal Insurance and Mitigation Administration, Federal Emergency Management Agency, 500 C Street, SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Sedgwick County, Kansas, and Incorporated Areas
Calfskin Creek | Approximately 200 feet downstream of Maize Road | +1316 | +1317 | City of Wichita, Unincorporated Areas of Sedgwick County.
| Approximately 1.25 miles upstream of Pawnee Road | None | +1339
Dry Creek North of Cowskin Creek | Approximately 250 feet downstream of 135th Street | +1347 | +1349 | City of Wichita, Unincorporated Areas of Sedgwick County.
| Approximately 0.41 mile upstream of 167th Street | None | +1392
Middle Fork Calfskin Creek | At the North Fork Calfskin Creek confluence | +1325 | +1326 | City of Wichita, Unincorporated Areas of Sedgwick County.
| Approximately 0.56 mile upstream of 151st Street | None | +1407
North Fork Calfskin Creek | Approximately 175 feet downstream of Maple Street | +1322 | +1323 | City of Wichita, Unincorporated Areas of Sedgwick County.
| Approximately 1.1 miles upstream of 151st Street | None | +1387
Tributary to Calfskin Creek | At the Calfskin Creek confluence | None | +1333 | City of Wichita, Unincorporated Areas of Sedgwick County.
| Approximately 450 feet upstream of Pawnee Road | None | +1353
Tributary to North Fork Calfskin Creek | Approximately 700 feet downstream of 135th Street | +1348 | +1347 | City of Wichita, Unincorporated Areas of Sedgwick County.
| Approximately 0.66 mile upstream of North Aksarben Street | None | +1369
Unnamed Tributary (backwater effects from Tributary to North Fork Calfskin Creek) | From approximately 550 feet upstream of the Tributary to North Fork Calfskin Creek confluence to approximately 800 feet upstream of 13th Street | None | +1362 | City of Wichita, Unincorporated Areas of Sedgwick County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Wichita
Maps are available for inspection at the Office of Storm Water Management, 455 North Main Street, 8th Floor, Wichita, KS 67202.
Unincorporated Areas of Sedgwick County
Maps are available for inspection at the Sedgwick County Bureau of Public Services, 1250 South Seneca Street, Wichita, KS 67213.
Stearns County, Minnesota, and Incorporated Areas
Clearwater River | Approximately 60 feet upstream of State Highway 55 | None | +1010 | Unincorporated Areas of Stearns County.
| Approximately 1,600 feet upstream of State Highway 55 | None | +1011
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Stearns County
Maps are available for inspection at the Stearns County Administration Center, 705 Courthouse Square, St. Cloud, MN 56303.
Sanders County, Montana, and Incorporated Areas
Clark Fork River | Approximately 0.9 mile downstream of Montana Highway 200 | None | +2480 | Unincorporated Areas of Sanders County.
| Approximately 0.5 mile upstream of Montana Highway 200 | None | +2495
Flathead River | Approximately 0.4 mile upstream of the Clark Fork River confluence | None | +2492 | Unincorporated Areas of Sanders County.
| Approximately 3.8 miles upstream of the Clark Fork River confluence | None | +2494
Hot Springs Creek | Approximately 0.5 mile downstream of Camas Road | None | +2792 | Town of Hot Springs.
| Approximately 0.5 mile upstream of Hot Springs Creek Road | None | +2990
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Town of Hot Springs
Maps are available for inspection at the Town Hall, 109 Main Street, Hot Springs, MT 59845.
Unincorporated Areas of Sanders County
Maps are available for inspection at the Sanders County Courthouse, 1111 Main Street, Thompson Falls, MT 59873.
Lebanon County, Pennsylvania (All Jurisdictions)
Killinger Creek | Approximately 0.59 mile downstream of Brandt Road | None | +413 | Township of North Londonderry.
| Approximately 0.52 mile downstream of Brandt Road | None | +415
Little Swatara Creek | At the Swatara Creek confluence | +410 | +408 | Borough of Jonestown.
| Approximately 1,000 feet upstream of South Lancaster Street | +412 | +408
Quittapahilla Creek | Approximately 750 feet downstream of U.S. Route 422 (Cumberland Street) | None | +393 | Borough of Cleona, Township of Annville, Township of North Annville, Township of South Lebanon.
| Approximately 700 feet upstream of U.S. Route 422 (Cumberland Street) | None | +473
Swatara Creek | Approximately 0.8 mile upstream of Ono Road | None | +397 | Borough of Jonestown, Township of East Hanover, Township of North Annville, Township of Union.
| Approximately 0.24 mile upstream of I-81 | None | +448
Tributary B | Approximately 85 feet downstream of West Main Avenue | None | +458 | Borough of Myerstown.
| Approximately 105 feet downstream of U.S. Route 422 | None | +468
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Borough of Cleona
Maps are available for inspection at the Borough Hall, 140 West Walnut Street, Cleona, PA 17042.
Borough of Jonestown
Maps are available for inspection at the Borough Building, 295 South Mill Street, Jonestown, PA 17038.
Borough of Myerstown
Maps are available for inspection at the Municipal Center, 101 East Washington Avenue, Myerstown, PA 17067.
Township of Annville
Maps are available for inspection at the Township Hall, 36 North Lancaster Street, Annville, PA 17003.
Township of East Hanover
Maps are available for inspection at the East Hanover Township Building, 1117 School House Road, Annville, PA 17003.
Township of North Annville
Maps are available for inspection at the North Annville Township Building, 1020 North Route 934, Annville, PA 17003.
Township of North Londonderry
Maps are available for inspection at the North Londonderry Township Building, 655 East Ridge Road, Palmyra, PA 17078.
Township of South Lebanon
Maps are available for inspection at the South Lebanon Township Building, 1800 South 5th Avenue, Lebanon, PA 17042.
Township of Union
Maps are available for inspection at the Union Township Building, 3111 State Route 72, Jonestown, PA 17038.
Wyoming County, Pennsylvania (All Jurisdictions)
Bowman Creek | Approximately 250 feet upstream of Keelersburg Road | +606 | +605 | Township of Eaton, Township of Monroe.
| Approximately 1.02 miles upstream of the most upstream crossing of State Route 29 (Joseph W. Hunter Highway) | +937 | +931
Buttermilk Creek | Approximately 1.1 miles downstream of State Route 2027 | None | +784 | Township of Falls.
| Approximately 460 feet upstream of Oak Drive | None | +961
South Branch Tunkhannock Creek | Approximately 0.4 mile downstream of State Route 2012 | +714 | +713 | Borough of Factoryville, Township of Clinton.
| Approximately 0.6 mile upstream of Church Street | +842 | +838
Susquehanna River | Approximately 1.0 mile upstream of Falls-Exeter State Route 92 crossing | None | +585 | Township of North Moreland.
| Approximately 2.5 miles upstream of Falls-Exeter State Route 92 crossing | None | +589
Swale Brook | At the downstream side of the railroad bridge | +610 | +609 | Borough of Tunkhannock.
| Approximately 0.7 mile upstream of Bridge Street | +665 | +655 | Township of Tunkhannock.
Tributary No. 1 to Swale Brook | At the Swale Brook confluence | +622 | +617 | Borough of Tunkhannock.
| Approximately 75 feet upstream of North Bridge Street | +729 | +723
Tunkhannock Creek | Approximately 425 feet downstream of 2nd U.S. Route 6 crossing | +610 | +609 | Township of Tunkhannock.
| Approximately 1.7 miles upstream of the most upstream U.S. Route 6 crossing | +642 | +643
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Borough of Factoryville
Maps are available for inspection at the Borough Municipal Building, 161 College Avenue, Factoryville, PA 18419.
Borough of Tunkhannock
Maps are available for inspection at the Borough Municipal Building, 126 Warren Street, Tunkhannock, PA 18657.
Township of Clinton
Maps are available for inspection at the Clinton Municipal Building, 256 Creek Road, Factoryville, PA 18419.
Township of Eaton
Maps are available for inspection at the Eaton Township Municipal Building, 1331 State Route 29 South, Tunkhannock, PA 18657.
Township of Falls
Maps are available for inspection at the Township Municipal Building, 220 Buttermilk Road, Falls, PA 18615.
Township of Monroe
Maps are available for inspection at the Township Municipal Building, 2605 State Route 29 South, Monroe, PA 18657.
Township of North Moreland
Maps are available for inspection at the North Moreland Township Municipal Building, 15 Municipal Lane, Dallas, PA 18612.
Township of Tunkhannock
Maps are available for inspection at the Township Municipal Building, 113 Tunkhannock Township Drive, Tunkhannock, PA 18657.
Williamsburg County, South Carolina, and Incorporated Areas
Apple Orchard Slough | Approximately 1.4 miles upstream of the Great Pee Dee River confluence | None | +29 | Unincorporated Areas of Williamsburg County.
| Approximately 2.6 miles upstream of the Great Pee Dee River confluence | None | +29
Bennett Swamp | At the Dickey Swamp confluence | None | +50 | Unincorporated Areas of Williamsburg County.
| Approximately 1.2 miles upstream of Eddie Woods Road | None | +61
Big Dam Swamp | At the upstream side of County Line Road | None | +20 | Unincorporated Areas of Williamsburg County.
| Approximately 2.6 miles upstream of County Line Road | None | +24
Birch Creek | At the downstream side of Thurgood Marshall Highway | None | +15 | Unincorporated Areas of Williamsburg County.
| Approximately 0.5 mile upstream of Birch Creek Road | None | +31
Black Mingo Creek | At the upstream side of County Line Road | None | +14 | Unincorporated Areas of Williamsburg County.
| Approximately 2.3 miles upstream of Battery Park Road | None | +27
Boggy Swamp A | At the Black Mingo Creek confluence | None | +25 | Unincorporated Areas of Williamsburg County.
| Approximately 0.9 mile upstream of Hemingway Highway | None | +33
Boggy Swamp B | Approximately 0.9 mile upstream of the Black River confluence | None | +35 | Unincorporated Areas of Williamsburg County.
| Approximately 3.7 miles upstream of Thurgood Marshall Highway | None | +58
Burnett Swamp | At the Black Mingo Creek confluence | None | +15 | Unincorporated Areas of Williamsburg County.
| Approximately 1.3 miles upstream of Nesmith Road | None | +23
Cain Branch | At the Newman Branch confluence | None | +63 | Unincorporated Areas of Williamsburg County.
| At the upstream side of McIntosh Road | None | +67
Camden Swamp | Approximately 0.4 mile downstream of Sims Reach Road | None | +28 | Unincorporated Areas of Williamsburg County.
| Approximately 0.4 mile upstream of Sims Reach Road | None | +34
Campbell Swamp | At the Black Mingo Creek confluence | None | +15 | Unincorporated Areas of Williamsburg County.
| Approximately 0.6 mile upstream of Turner Road | None | +25
Cedar Branch | At the Soccee Swamp confluence | None | +32 | Unincorporated Areas of Williamsburg County.
| Approximately 511 feet upstream of Cockfield Road | None | +51
Cedar Swamp | At the Black Mingo Creek confluence | None | +28 | Unincorporated Areas of Williamsburg County.
| Approximately 0.7 mile upstream of Cedar Swamp Road | None | +45
Clapps Swamp | Approximately 0.4 mile upstream of the Black River confluence | None | +51 | Unincorporated Areas of Williamsburg County.
| Approximately 0.7 mile upstream of Hebron Road | None | +69
Clarks Creek | At the Great Pee Dee River confluence | None | +29 | Unincorporated Areas of Williamsburg County.
| Approximately 2.8 miles upstream of the Great Pee Dee River confluence | None | +29
Dickey Swamp | Approximately 0.7 mile downstream of Old Gapway Road | None | +41 | Unincorporated Areas of Williamsburg County.
| Approximately 416 feet downstream of Williamsburg County Highway South | None | +48
Flat Creek | At the Johnsons Swamp confluence | None | +35 | Unincorporated Areas of Williamsburg County.
| Approximately 0.9 mile upstream of Aimwell Road | None | +43
Grahams Mills Branch | At the Smiths Swamp confluence | None | +57 | Unincorporated Areas of Williamsburg County.
| Approximately 160 feet upstream of McClary Road | None | +59
Gully Branch | At the Black Mingo Creek confluence | None | +17 | Unincorporated Areas of Williamsburg County.
| Approximately 0.8 mile upstream of the Black Mingo Creek confluence | None | +23
Headless Creek | At the Black Mingo Creek confluence | None | +15 | Unincorporated Areas of Williamsburg County.
| Approximately 0.3 mile upstream of Nesmith Road | None | +22
Hell Hole Branch | At the Birch Creek confluence | None | +32 | Unincorporated Areas of Williamsburg County.
| Approximately 0.6 mile upstream of the Hell Hole Branch Tributary 1 confluence | None | +43
Home Swamp | At the Cedar Swamp confluence | None | +40 | Unincorporated Areas of Williamsburg County.
| Approximately 1.0 mile upstream of the Cedar Swamp confluence | None | +46
Hughs Branch | At the Poplar Hill Branch confluence | None | +15 | Unincorporated Areas of Williamsburg County.
| Approximately 67 feet upstream of State Highway 41/51 | None | +28
Indiantown Swamp | At the Black Mingo Creek confluence | None | +19 | Unincorporated Areas of Williamsburg County.
| Approximately 0.9 mile upstream of Mount Carmel Road | None | +36
Jacks Creek | At the Black Mingo Creek confluence | None | +15 | Unincorporated Areas of Williamsburg County.
| Approximately 0.8 mile upstream of Nesmith Road | None | +28
James Branch | At the Indiantown Swamp confluence | None | +33 | Unincorporated Areas of Williamsburg County.
| Approximately 0.6 mile upstream of the Indiantown Swamp confluence | None | +36
Johnson Branch | At the Black Mingo Creek confluence | None | +15 | Unincorporated Areas of Williamsburg County.
| Approximately 0.6 mile upstream of the Black Mingo Creek confluence | None | +20
Johnsons Swamp | Approximately 1.2 miles downstream of Gapway Road | None | +15 | Unincorporated Areas of Williamsburg County.
| Approximately 0.5 mile upstream of Earle Road | None | +34
Kingstree Swamp | At the Black River confluence | None | +43 | Town of Kingstree, Unincorporated Areas of Williamsburg County.
| Approximately 0.3 mile upstream of Sandy Bay Road | None | +48
Lake Swamp | At the upstream side of Old Georgetown Road | None | +42 | Unincorporated Areas of Williamsburg County.
| At the upstream side of Five Bridges Road | None | +58
Log Branch | At the Johnsons Swamp confluence | None | +35 | Unincorporated Areas of Williamsburg County.
| Approximately 0.3 mile upstream of the Johnsons Swamp confluence | None | +37
Long Branch | At the Clapps Swamp confluence | None | +69 | Unincorporated Areas of Williamsburg County.
| Approximately 1.4 miles upstream of Twin Lakes Road | None | +77
McGirts Swamp | At the Dickey Swamp confluence | None | +42 | Unincorporated Areas of Williamsburg County.
| Approximately 101 feet upstream of Nelson Hill Road | None | +60
McKnight Swamp | At the Paisley Swamp confluence | None | +32 | Unincorporated Areas of Williamsburg County.
| Approximately 3.1 miles upstream of the Paisley Swamp confluence | None | +42
McNamee Swamp | At the Singleton Swamp confluence | None | +53 | Unincorporated Areas of Williamsburg County.
| Approximately 1.8 miles upstream of Cade Road | None | +64
Mill Branch B | At the Johnsons Swamp confluence | None | +27 | Unincorporated Areas of Williamsburg County.
| Approximately 0.5 mile upstream of Earle Road | None | +34
Mill Branch Tributary 1 | At the Mill Branch B confluence | None | +28 | Unincorporated Areas of Williamsburg County.
| Approximately 110 feet upstream of Earle Road | None | +35
Mill Creek A | At the Muddy Creek confluence | None | +29 | Unincorporated Areas of Williamsburg County.
| Approximately 100 feet upstream of Muddy Creek Road | None | +42
Mount Hope Swamp | Approximately 2.9 miles upstream of the Santee River confluence | None | +56 | Unincorporated Areas of Williamsburg County.
| Approximately 0.8 mile upstream of Old Forreston Road | None | +74
Muddy Creek | At the Clarks Creek confluence | None | +29 | Town of Hemingway, Unincorporated Areas of Williamsburg County.
| Approximately 0.3 mile upstream of East Broad Street | None | +50
Mulberry Branch | At the Dickey Swamp confluence | None | +50 | Unincorporated Areas of Williamsburg County.
| Approximately 745 feet upstream of Mulberry Road | None | +52
Murray Swamp | At the Johnsons Swamp confluence | None | +18 | Unincorporated Areas of Williamsburg County.
| Approximately 125 feet upstream of Tad Road | None | +41
Newman Branch | At the Pudding Swamp confluence | None | +62 | Unincorporated Areas of Williamsburg County.
| Approximately 1.3 miles upstream of the Pudding Swamp confluence | None | +64
Ox Swamp | At the Black River confluence | None | +29 | Unincorporated Areas of Williamsburg County.
| Approximately 1,635 feet upstream of U.S. Route 521 | None | +30
Paisley Swamp | At the Black Mingo Creek confluence | None | +28 | Unincorporated Areas of Williamsburg County.
| At the McKnight Swamp confluence | None | +31
Paisley Swamp Tributary 1 | At the Paisley Swamp confluence | None | +31 | Unincorporated Areas of Williamsburg County.
| Approximately 1,300 feet upstream of Cade Road | None | +36
Paisley Swamp Tributary 2 | At the Paisley Swamp confluence | None | +32 | Unincorporated Areas of Williamsburg County.
| Approximately 0.7 mile upstream of the Paisley Swamp confluence | None | +34
Poplar Hill Branch | At the Black Mingo Creek confluence | None | +15 | Unincorporated Areas of Williamsburg County.
| Approximately 0.7 mile upstream of Radio Road | None | +26
Pudding Swamp | At the Black River confluence | None | +54 | Unincorporated Areas of Williamsburg County.
| Approximately 2.0 miles upstream of Burgess Crossing Road | None | +64
Rocky Ford Swamp | At the McGirts Swamp confluence | None | +48 | Unincorporated Areas of Williamsburg County.
| Approximately 0.7 mile upstream of the McGirts Swamp confluence | None | +58
Roper Branch | At the Big Dam Swamp confluence | None | +21 | Unincorporated Areas of Williamsburg County.
| At the upstream side of County Line Road | None | +21
Singleton Swamp | At the Lake Swamp confluence | None | +48 | Unincorporated Areas of Williamsburg County.
| Approximately 0.8 mile upstream of Five Bridges Road | None | +56
Sleeper Branch | At the Big Dam Swamp confluence | None | +21 | Unincorporated Areas of Williamsburg County.
| Approximately 0.4 mile upstream of the Big Dam Swamp confluence | None | +21
Smith Swamp | At the downstream side of Browns Ferry Road | None | +9 | Unincorporated Areas of Williamsburg County.
| Approximately 3.6 miles upstream of Browns Ferry Road | None | +28
Smiths Swamp | At the Singleton Swamp confluence | None | +57 | Unincorporated Areas of Williamsburg County.
| Approximately 2.4 miles upstream of Tomlinson Road | None | +74
Soccee Swamp | At the Clarks Creek confluence | None | +29 | Unincorporated Areas of Williamsburg County.
| Approximately 1.3 miles upstream of Hemingway Highway | None | +35
Spring Branch A | At the Clapps Swamp confluence | None | +65 | Unincorporated Areas of Williamsburg County.
| Approximately 826 feet upstream of Spring Bank Road | None | +71
Spring Gully | At the Black River confluence | None | +23 | Unincorporated Areas of Williamsburg County.
| Approximately 1.5 miles upstream of the Black River confluence | None | +28
Stony Run Branch | Approximately 1,013 feet downstream of U.S. Route 521 | None | +37 | Unincorporated Areas of Williamsburg County.
| Approximately 3.0 miles upstream of U.S. Route 521 | None | +54
Thorntree Swamp | Approximately 0.5 mile downstream of U.S. Route 521 | None | +38 | Town of Lane, Unincorporated Areas of Williamsburg County.
| Approximately 0.8 mile upstream of 10th Street | None | +70
Turkey Creek | At the Black Mingo Creek confluence | None | +27 | Unincorporated Areas of Williamsburg County.
| Approximately 1.3 miles upstream of Battery Park Road | None | +33
Unnamed Tributary 1 | At the Pudding Swamp confluence | None | +58 | Unincorporated Areas of Williamsburg County.
| Approximately 0.7 mile upstream of McIntosh Road | None | +77
Unnamed Tributary 10 | At the Mount Hope Swamp confluence | None | +56 | Unincorporated Areas of Williamsburg County.
| Approximately 1.3 miles upstream of the Mount Hope Swamp confluence | None | +61
Unnamed Tributary 18 | At the Johnsons Swamp confluence | None | +25 | Unincorporated Areas of Williamsburg County.
| At the upstream side of Oakridge Road | None | +29
Unnamed Tributary 2 | At the Singleton Swamp confluence | None | +48 | Unincorporated Areas of Williamsburg County.
| Approximately 0.5 mile upstream of the Singleton Swamp confluence | None | +54
Unnamed Tributary 20 | At the Johnsons Swamp confluence | None | +23 | Unincorporated Areas of Williamsburg County.
| At the upstream side of County Line Road | None | +23
Unnamed Tributary 22 | At the Johnsons Swamp confluence | None | +20 | Unincorporated Areas of Williamsburg County.
| Approximately 0.4 mile upstream of the Johnsons Swamp confluence | None | +22
Unnamed Tributary 24 | At the Birch Creek confluence | None | +19 | Unincorporated Areas of Williamsburg County.
| Approximately 0.4 mile upstream of the Birch Creek confluence | None | +24
Unnamed Tributary 27 | At the Smith Swamp confluence | None | +25 | Unincorporated Areas of Williamsburg County.
| At the downstream side of County Line Road | None | +31
Unnamed Tributary 29 | At the Burnett Swamp confluence | None | +15 | Unincorporated Areas of Williamsburg County.
| Approximately 0.9 mile upstream of the Burnett Swamp confluence | None | +37
Unnamed Tributary 3 | At the Lake Swamp confluence | None | +48 | Unincorporated Areas of Williamsburg County.
| Approximately 0.6 mile upstream of the Lake Swamp confluence | None | +50
Unnamed Tributary 37 | At the Black Mingo Creek confluence | None | +16 | Unincorporated Areas of Williamsburg County.
| Approximately 1.3 miles upstream of the Black Mingo Creek confluence | None | +24
Unnamed Tributary 44 | At the Soccee Swamp confluence | None | +29 | Unincorporated Areas of Williamsburg County.
| At the upstream side of County Line Road | None | +37
Unnamed Tributary 49 | At the Muddy Creek confluence | None | +34 | Town of Hemingway, Unincorporated Areas of Williamsburg County.
| Approximately 1,160 feet upstream of East Broad Street | None | +49
Unnamed Tributary 50 | At the Black River confluence | None | +42 | Town of Kingstree, Unincorporated Areas of Williamsburg County.
| Approximately 0.6 mile upstream of Eastland Avenue | None | +61
Unnamed Tributary 50_2 | At the Unnamed Tributary 50 confluence | None | +46 | Town of Kingstree, Unincorporated Areas of Williamsburg County.
| Approximately 0.6 mile upstream of Eastland Avenue | None | +60
Unnamed Tributary 6 | Approximately 200 feet downstream of County. Line Road | None | +38 | Unincorporated Areas of Williamsburg County.
| Approximately 250 feet upstream of Claire Road | None | +44
Unnamed Tributary 7 | At the Soccee Swamp confluence | None | +29 | Unincorporated Areas of Williamsburg County.
| Approximately 0.6 mile upstream of East Lawrimore Road | None | +43
Unnamed Tributary 9 | At the Mount Hope Swamp confluence | None | +70 | Unincorporated Areas of Williamsburg County.
| Approximately 0.4 mile upstream of Old Forreston Road | None | +76
Walden Branch | At the Black Mingo Creek confluence | None | +15 | Unincorporated Areas of Williamsburg County.
| Approximately 1.0 mile upstream of the Black Mingo Creek confluence | None | +17
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Town of Hemingway
Maps are available for inspection at 110 South Main Street, Hemingway, SC 29554.
Town of Kingstree
Maps are available for inspection at 401 North Longstreet Street, Kingstree, SC 29556.
Town of Lane
Maps are available for inspection at 345 South Lane Road, Lane, SC 29564.
Unincorporated Areas of Williamsburg County
Maps are available for inspection at 147 West Main Street, Kingstree, SC 29556.
Sumner County, Tennessee, and Incorporated Areas
East Camp Creek | Approximately 1,110 feet downstream of U.S. Route 31 | +452 | +453 | City of Gallatin
| At the downstream side of State Route 25 | +487 | +486
North Donoho Branch | At the upstream side of the railroad | None | +794 | City of Portland.
| Approximately 0.6 mile upstream of the railroad | None | +794
Sink Hole Creek | At the downstream side of Newton Lane | +474 | +475 | City of Gallatin, Unincorporated Areas of Sumner County.
| Approximately 0.4 mile upstream of Airport Driveway | None | +571
Sink Hole Creek Tributary | Approximately 320 feet upstream of the Sink Hole Creek confluence | +499 | +498 | City of Gallatin, Unincorporated Areas of Sumner County.
| Approximately 580 feet upstream of Airport Road | None | +547
Station Camp Creek | At the upstream side of Lower Station Camp Road | +455 | +452 | City of Gallatin, City of Hendersonville, Unincorporated Areas of Sumner County.
| Approximately 0.8 mile downstream of the Strother Branch confluence | +555 | +554
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Gallatin
Maps are available for inspection at City Hall, 132 West Main Street, Gallatin, TN 37066.
City of Hendersonville
Maps are available for inspection at City Hall, Planning and Zoning, 1 Executive Park Drive, Hendersonville, TN 37075.
City of Portland
Maps are available for inspection at City Hall, 100 South Russell Street, Portland, TN 37148.
Unincorporated Areas of Sumner County
Maps are available for inspection at the Sumner County Building Department, 355 North Belvedere Drive, Room 202, Gallatin, TN 37066.
Prince George County, Virginia, and Incorporated Areas
Harrison Creek | Approximately 0.39 mile downstream of Puddledock Road | None | +11 | Unincorporated Areas of Prince George County.
| Approximately 1,405 feet upstream of Puddledock Road | None | +29
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Prince George County
Maps are available for inspection at the Prince George County. Planning Department, 6602 Courts Drive, Prince George, VA 23875.
Thurston County, Washington, and Incorporated Areas
Deschutes River | Approximately 615 feet downstream of Waldrick Road Southeast | +237 | +240 | Unincorporated Areas of Thurston County.
| At the downstream side of Waldrick Road Southeast | +237 | +243
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Thurston County
Maps are available for inspection at the Thurston County. Courthouse, 2000 Lakeridge Drive Southwest, Olympia, WA 98502.

(Catalog of Federal Domestic Assistance No. 97.022, “Flood Insurance.”)

Dated: March 21, 2011.
Sandra K. Knight,
Deputy Federal Insurance and Mitigation Administrator, Mitigation, Department of Homeland Security, Federal Emergency Management Agency.

[FR Doc. 2011-8113 Filed 4-5-11; 8:45 am]

BILLING CODE 9110-12-P